DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c) (4) and 552b(c) (6), Title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel; Subcommittee F—Institutional Training and Education.

Date: October 20-21, 2014.

Time: 7:30 p.m. to 3:45 p.m.

Agenda: To review and evaluate grant applications.

Place: Gaithersburg Marriott Washingtonian Center 9751 Washingtonian Boulevard Gaithersburg, MD 20878.

Contact Person: Timothy C. Meeker, MD, Ph.D. Scientific Review Officer Resources and Training Review Branch Division of Extramural Activities National Cancer Institute 9609 Medical Center Drive, Room 7W624 Bethesda, MD 20892-9750 240-276-6464 meekert@mail.nih.gov.

Name of Committee: National Cancer Institute Special Emphasis Panel; Provocative Questions Group C.

Date: October 22-23, 2014.

Time: 5:00 p.m. to 12:00 p.m.

Agenda: To review and evaluate grant applications.

Place: Bethesda North Marriott Hotel & Conference Center 5701 Marinelli Road Bethesda, MD 20852.

Contact Person: Caron A Lyman, Ph.D. Chief, Scientific Review Officer Research Programs Review Branch Division Of Extramural Activities National Cancer Institute 9609 Medical Center Drive, Room 7W126 Bethesda, md 20892-9750 240-276-6348 lymanc@mail.nih.gov.

Name of Committee: National Cancer Institute Special Emphasis Panel; Small Grants Program for Cancer Epidemiology (R03).

Date: October 30, 2014.

Time: 10:00 a.m. to 4:00 p.m.

Agenda: To review and evaluate grant applications.

Place: National Cancer Institute Shady Grove 9609 Medical Center Drive, Room 7E030 Rockville, MD 20850 (Telephone Conference Call).

Contact Person: Adriana Stoica, Ph.D. Scientific Review Officer Resources and Training Review Branch Division of Extramural Activities National Cancer Institute, NIH 9609 Medical Center Drive, 7W234 Rockville, MD 20850 240-276-6368 stoicaa2@mail.nih.gov.

Information is also available on the Institute's/Center's home page: http://deainfo.nci.nih.gov/advisory/sep/sep.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS).

Dated: August 27, 2014.
Melanie J. Gray,
Program Analyst, Office of Federal Advisory Committee Policy.

[FR Doc. 2014-20853 Filed 9-2-14; 8:45 am]

BILLING CODE 4140-01-P